NATIONAL SCIENCE FOUNDATION

Solicitation for Members of the National Science Board

AGENCY: National Science Board Office, National Science Foundation.

ACTION: Notice.

SUMMARY: The National Science Board (Board) and the National Science Foundation (NSF) Director are soliciting nominations for evaluation and submission to the President. The Board was established by Congress in 1950 to provide oversight for, and establishes the policies of, NSF. The Board also serves as an independent body of advisors to both the President and Congress on broad national policy issues related to science and engineering research and education. The Board consists of 24 members appointed by the President, with the advice and consent of the Senate, for 6-year terms, in addition to the NSF Director who serves as an ex officio Member.

Section 4(c) of the National Science Foundation Act of 1950, as amended, states that: “The persons nominated for appointment as members of the Board (1) shall be eminent in the fields of the basic, medical, or social sciences, engineering, agriculture, education, research management, or public affairs; (2) shall be selected solely on the basis of established records of distinguished service; and (3) shall be so selected as to provide representation of the views of scientific and engineering leaders in all areas of the Nation.”

DATES: Nominations must be received by December 15, 2006.

ADDRESSES: Letters of nomination accompanied by biographical information and a curriculum vita (without publications) may be forwarded to the Chairman, National Science Board, National Science Foundation, 4201 Wilson Boulevard, Room 1220, Arlington, VA 22230.

FURTHER INFORMATION CONTACT: Michael P. Crosby, Executive Officer and Board Office Director, (703) 292-7000, mcrosby@nsf.gov or Mrs. Susan E. Fannoney, Senior Associate for Operations and Honorary Awards, Board Office (703-292-8096), sfannone@nsf.gov.

SUPPLEMENTARY INFORMATION: Nominations should include: (1) The nominee's full name, title, institutional affiliation, and contact information; (2) the nominee's area(s) of expertise; and (3) a short description of their qualifications.

Russell Moy,
Attorney-Advisor.

[FR Doc. E6-17604 Filed 10-20-06; 8:45 am]

BILLING CODE 7555-01-P